DEPARTMENT OF STATE

[DELEGATION OF AUTHORITY NO. 354]

Delegation of Authority to the Comptroller of Certain Authorities Regarding Debt Collection and Waiver of Claims

Section 1. General Delegation

By virtue of the authority vested in the Secretary of State by the laws and authorities of the United States, including 22 U.S.C. 2651a; the Debt Collection Improvement Act of 1996, Public Law 104-134 (1996); the Office of Management and Budget's Determination with Respect to Transfer of Functions Pursuant to Public Law 104-316 (December 17, 1996); the Travel and Transportation Reform Act of 1998, Public Law 105-264 (1998); 5 U.S.C. §§ 4108, 5379, 5514, 5522, 5524a, 5705, 5922, and 8707; 22 U.S.C. §§ 2671, 2716, 4047 and 4071; and 31 U.S.C. chapter 37, and delegated to me by Delegation of Authority No. 198, dated September 16, 1992, I hereby delegate, to the extent authorized by law, the duties, functions and responsibilities for the administrative collection, compromise, suspension, termination of Department collection, advance decision, settlement, and waiver of claims of or against debtors of the Department of State, pursuant to the above-mentioned authorities, to the Comptroller of the Department of State.

Section 2. General Provisions

(a) Notwithstanding any provision of this Delegation of Authority, the Secretary of State, the Deputy Secretary, the Deputy Secretary for Management and Resources, or the Under Secretary for Management may at any time exercise any function delegated by this delegation of authority. Functions delegated herein may be redelegated, to the extent authorized by law.

(b) Any reference in this delegation of authority to any act, executive order, determination, delegation of authority, regulation, or procedure shall be deemed to be a reference to such act, executive order, determination, delegation of authority, regulation, or procedure as amended from time to time.

(c) Delegation of Authority 266-1, dated October 22, 2003, is hereby revoked.

(d) This Delegation of Authority shall be published in the Federal Register.

Dated: April 23, 2013.
Patrick F. Kennedy,
Under Secretary of State.

[FR Doc. 2013-11485 Filed 5-13-13; 8:45 am]

BILLING CODE 4710-02-P